DEPARTMENT OF HEALTH AND HUMAN SERVICES

Agency for Healthcare Research and Quality

Statement of Organization, Functions, and Delegations of Authority

Part E, Chapter E (Agency for Healthcare Research and Quality), of the Statement of Organization, Functions, and Delegations of Authority for the Department of Health and Human Services (61 FR 15955-58, April 10, 1996, most recently amended at 78 FR 38981, on June 28, 2013) is amended to reflect recent organizational changes. The specific amendments are as follows:

I. Under Section E-10, Organization, delete all components and replace with the following:

A. Office of the Director.

B. Center for Delivery, Organization, and Markets.

C. Center for Financing, Access, and Cost Trends.

D. Center for Evidence and Practice Improvement.

E. Center for Quality Improvement and Patient Safety.

F. Office of Communications and Knowledge Transfer.

G. Office of Extramural Research, Education, and Priority Populations.

H. Office of Management Services.

II. Under Section E-20, Functions, delete Center for Outcomes and Evidence (EJ) and Center for Primary Care, Prevention, and Clinical Partnerships (EK) in its entirety and replace with the following:

Center for Evidence and Practice Improvement (EK). Generates new knowledge, synthesizes evidence, translates science for multiple stakeholders, and catalyzes practice improvement. Specifically: (1) Conducts and supports evidence synthesis and research on health care delivery and improvement that is informed by the needs of patients, clinicians, and policy makers, including providing scientific, administrative and dissemination support for the U.S. Preventive Services Task Force; (2) advances decision and communication sciences and implementation research to facilitate informed treatment and health care decision making by patients and their health care providers and serving as a trusted source for evidence-based tools, decision aids, and other products about what works in health care and practice improvement; (3) explores how health information technology can improve clinical decision making and health care quality and helping Federal partners and health care stakeholders use this evidence; (4) catalyzes and sustains ongoing improvements in clinical practice across health care settings through research, demonstration projects, and partnership development; (5) operates the National Center for Excellence in Primary Care Research.

Division of the Evidence-Based Practice Center Program (EKB). Produces evidence syntheses by conducting systematic evidence reviews using robust and rigorous methodologies to advance the methods of evidence synthesis to ensure scientific rigor and unbiased reviews of evidence.

Division of U.S. Preventive Services Task Force Support (EKC). Provides scientific, administrative, and dissemination support for the independent U.S. Preventive Services Task Force, enabling the Task Force to make evidence-based recommendations on clinical preventive services.

Division of Decision Science and Patient Engagement (EKD). Provides evidence-based tools, decision aids, and other products that address what works in health care and practice improvement. Specifically: (1) Translates complex scientific evidence into tools and products targeted to diverse stakeholders that facilitate informed health care decision making and (2) engages with stakeholders to advance the field of evidence-based decision making to improve methods for engagement of all communities in health care decision making.

Division of Health Information Technology (EKE). Develops and disseminates evidence and evidence-based tools to inform policy and practice on how health information technology can improve the quality of health care.

Division of Practice Improvement Science and Implementation (EKF). Engages stakeholders and communities of learning for practice improvement, serves as a trusted resource of evidence and tools for methods, measures, and evaluation of practice improvement. Specifically: (1) Explores how to facilitate practice transformation and improvement in diverse settings and (2) pilots innovative models of practice improvement.

All delegations and redelegations of authority to officers and employees of the Agency for Healthcare Research and Quality that were in effect immediately prior to the effective date of this reorganization shall continue in effect pending further redelegation provided they are consistent with this reorganization.

These changes are effective upon date of signature.

Dated: July 9, 2014.
Richard Kronick,
AHRQ Director.

[FR Doc. 2014-17126 Filed 7-18-14; 8:45 am]

BILLING CODE 4160-90-P